DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 2, 2000, through December 27, 2000.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Associate Administrator for Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Antoinette Dailey, Glen Cove, New York, Court of Federal Claims Number 00-0586V

2. Matthew Bernstein, Red Bank, New Jersey, Court of Federal Claims Number 00-0587V

3. Michele and Dwayne Cozart on behalf of Colby Allen Cozart, Deceased, Vienna, Virginia, Court of Federal Claims Number 00-0590V

4. Lisa and Seth Sykes on behalf of Wesley Alexander Sykes, Vienna, Virginia, Court of Federal Claims Number 00-0591V

5. John Bernhardt on behalf of Nicholas Bernhardt, Bel Air, Maryland, Court of Federal Claims Number 00-0592V

6. Wendy Thomas, Vienna, Virginia, Court of Federal Claims Number 00-0593V

7. Kimberly Ann Hearon on behalf of Damel Jamar Hearon, Clarksdale, Mississippi, Court of Federal Claims Number 00-0601V

8. Gary Griffin, Auburn, California, Court of Federal Claims Number 00-0607V

9. Joanne Afraid of Hawk and Jody Gaking on behalf of Jaede Gaking, Fort Tolten, North Dakota, Court of Federal Claims Number 00-0615V

10. Christina B. Bogert on behalf of Douglas K. Bogert, San Jose, California, Court of Federal Claims Number 00-0623V

11. H. Dale Dunnam, Baton Rouge, Louisiana, Court of Federal Claims Number 00-0627V

12. Pamela Baxter, Boston, Massachusetts, Court of Federal Claims Number 00-0630V

13. Sharron Cook, Jackson, Tennessee, Court of Federal Claims Number 00-0631V

14. Melissa Hawkins on behalf of Shannon Hawkins, Boston, Massachusetts, Court of Federal Claims Number 00-0646V

15. Amanda and Felipe Esparza on behalf of Martin Eduardo Esparza, El Paso, Texas, Court of Federal Claims Number 00-0651V

16. George D. McDonald, Springfield, Massachusetts, Court of Federal Claims Number 00-0654V

17. Leslie Yost-Shomer on behalf of Cole Shomer, Vienna, Virginia, Court of Federal Claims Number 00-0657V

18. Blackbird Willow, Vienna, Virginia, Court of Federal Claims Number 00-0658V

19. Victoria Cummings on behalf of Terry Lee Cummings, III, Vienna, Virginia, Court of Federal Claims Number 00-0659V

20. Ashley McDonald and Cody Wisenhunt on behalf of Keylee Jordan Wisenhunt, Deceased, Denton, Texas, Court of Federal Claims Number 00-0661V

21. Sherena Valico on behalf of Ahzja Dove, Deceased, Hartford, Connecticut, Court of Federal Claims Number 00-0662V

22. Lisa Frechette, Worcester, Massachusetts, Court of Federal Claims Number 00-0664V

23. Jann Leonard on behalf of Jessica Leonard, Troy, New York, Court of Federal Claims Number 00-0667V

24. Daphne Reis on behalf of Andreas Reis, Jersey City, New Jersey, Court of Federal Claims Number 00-0672V

25. Dejoire and Erick Benson on behalf of Deja Benson, Riverside, California, Court of Federal Claims Number 00-0673V

26. Melissa Tiorano-Willard on behalf of Amanda Willard, Boston, Massachusetts, Court of Federal Claims Number 00-0698V

27. Laurie and David Taylor on behalf of Kara Maddisen Taylor, Deceased, Orlando, Florida, Court of Federal Claims Number 00-0700V

28. Elizabeth DeLuca on behalf of Caroline DeLuca, Houston, Texas, Court of Federal Claims Number 00-0702V

29. Michelle and Mark Woodcock on behalf of Thomas Woodcock, Deceased, Vienna, Virginia, Court of Federal Claims Number 00-0704V

30. Andrea Sapp on behalf of Robert Sapp, Jr., Plant City, Florida, Court of Federal Claims Number 00-0711V

31. Sue Anna Harwood, Corpus Christi, Texas, Court of Federal Claims Number 00-0712V

32. Cynthia Halbrooks on behalf of Sonya Halbrooks, Centerville, Tennessee, Court of Federal Claims Number 00-0713V

33. Melodye and Mark Bernier on behalf of Kathleen Bernier, Deland, Florida, Court of Federal Claims Number 00-0719V

34. John J. Czapiewski, Sussex, Wisconsin, Court of Federal Claims Number 00-0720V

35. Patricia Vargas on behalf of Tania Vargas, Deceased, Fairmont, Minnesota, Court of Federal Claims Number 00-0722V

36. Hoa and Phillip Tran on behalf of Jasmin Amanda Tran, Vallejo, California, Court of Federal Claims Number 00-0723V

37. Kelly Townsend on behalf of Elizabeth D. Precie, Phoenix, Oregon, Court of Federal Claims Number 00-0728V

38. Janelle Kelly on behalf of Christian Kelly, Deceased, Largo, Florida, Court of Federal Claims Number 00-0729V

39. Misty and Phillip Hiatt on behalf of Madison Hiatt, Pensacola, Florida, Court of Federal Claims Number 00-0732V

40. Sarah Morin, Boston, Massachusetts, Court of Federal Claims Number 00-0733V

41. Roxan and William Winner on behalf of William Darius Winner, Norman, Oklahoma, Court of Federal Claims Number 00-0736V

42. Aime Melendez on behalf of Gisselle Melendez, Bakersfield, California, Court of Federal Claims Number 00-0738V

43. Jeannine and Charles Wills on behalf of John Gabriel Wills, Baltimore, Maryland, Court of Federal Claims Number 00-0743V

44. Helen and Greg Hopkins on behalf of Finn Hopkins, Vienna, Virginia, Court of Federal Claims Number 00-0745V

45. Helen and Greg Hopkins on behalf of Ruby Hopkins, Vienna, Virginia, Court of Federal Claims Number 00-0746V

46. Edmond Chiu on behalf of James Chiu, Vienna, Virginia, Court of Federal Claims Number 00-0747V

47. Jennifer Polcari, Vienna, Virginia, Court of Federal Claims Number 00-0748V

48. Teresa and Gustavo Gruber on behalf of Catherine A. Gruber, Vienna, Virginia, Court of Federal Claims Number 00-0749V

49. Lisa and James Giffels on behalf of Keegan Rose Giffels, Kalamazoo, Michigan, Court of Federal Claims Number 00-0753V

50. Faith Ginene Wenrich on behalf of Michael Allen Wenrich, Hershey, Pennsylvania, Court of Federal Claims Number 00-0758V

51. Rose Capizzano, Westerly, Rhode Island, Court of Federal Claims Number 00-0759V

52. Alveria and Gregory Lewis on behalf of Victoria Lewis, Pensacola, Florida, Court of Federal Claims Number 00-0760V

53. Luisa Diaz on behalf of Alejandro Diaz, San Ramon, California, Court of Federal Claims Number 00-0764V

54. Robin and David Griggs on behalf of Laura Griggs, Cincinnati, Ohio, Court of Federal Claims Number 00-0765V

55. Marjorie Meashaw, Potsdam, New York, Court of Federal Claims Number 00-0769V

56. Gloria Brown on behalf of Joenesha Miller, Pahokee, Florida, Court of Federal Claims Number 00-0770V

57. Michael K. Wilde, Vienna, Virginia, Court of Federal Claims Number 00-0777V

58. Martha Carr on behalf of Danielle McGinnis, Boston, Massachusetts, Court of Federal Claims Number 00-0778V

59. Elaine Monaro, Oklahoma City, Oklahoma, Court of Federal Claims Number 00-0782V

Dated: March 9, 2001.
Claude Earl Fox,
Administrator.

[FR Doc. 01-6553 Filed 3-15-01; 8:45 am]

BILLING CODE 4160-15-P